DEPARTMENT OF HOMELAND SECURITY

National Protection and Programs Directorate; Assessment Questionnaire—Voluntary Chemical Assessment Tool (VCAT)

AGENCY: National Protection and Programs Directorate, DHS.

ACTION: 60-Day notice and request for comments; new information collection request, 1670-NEW.

SUMMARY: The Department of Homeland Security, National Protection and Programs Directorate, has submitted the following information collection request (ICR) to the Office of Management and Budget (OMB) for review and clearance in accordance with the Paperwork Reduction Act of 1995 (Pub. L. 104-13, 44 U.S.C. Chapter 35).

DATES: Comments are encouraged and will be accepted until November 13, 2009. This process is conducted in accordance with 5 CFR 1320.1.

ADDRESSES: Comments and questions about this Information Collection Request should be forwarded to Amanda Norman, Program Analyst, DHS/NPPD/IP/IICD, Amanda.norman@hq.dhs.gov.

SUPPLEMENTARY INFORMATION: The Chemical Facility Anti-Terrorism Standards (CFATS), issued by the Department of Homeland Security (DHS) in April 2007, mandates that chemical facilities conduct a security vulnerability assessment (SVA) and then develop a site security plan (SSP) to implement security measures that adhere to standards specified by the Department. All facilities complete a top-screen process that determines whether or not completion of an SVA is required. Those facilities that do not meet the threshold do not conduct an SVA, however there is no means by which they can assess the risks and/or vulnerabilities of their facility. To fill this gap, the Methodology Technical Implementation (MTI) office, within the Infrastructure Information Collection Division (IICD), in the Office of Infrastructure Protection (IP), National Protection and Program Directorate (NPPD), supports the automation of sector-approved risk and vulnerability assessment methodologies that are compliant with the criteria outlined in the National Infrastructure Protection Plan (NIPP). The method is to provide a Web-based, automated assessment tool to the Chemical Sector for voluntary use by chemical facilities that allow owners/operators to identify their current vulnerability and risk levels through an all-hazards approach. The application, titled Voluntary Chemical Assessment Tool (VCAT), will enable owners/operators to evaluate the theoretical vulnerability and risk associated with the effects of the selected threats, thus allowing the Chemical Sector to more thoroughly understand, prioritize and analyze its assets or systems. This application will facilitate cost benefit analysis, allowing owners/operators to select the best combination of physical security countermeasures and mitigation strategies to reduce overall risk. Collection of this information is directed and supported by Homeland Security Presidential Directive (HSPD) 7, “Critical Infrastructure Identification, Prioritization, and Protection,” December 17, 2003.

After Chemical sector specific agency (SSA) and private sector partners access the VCAT system (see supporting statement for VCAT User Accounts), the user will be prompted with the VCAT Assessment questionnaire and will answer various questions to input the data. This information will be used to supplement existing CIKR protection activities conducted by DHS NPPD. More specifically, the information will be used to address facility assessments, response planning, and risk mitigation execution and related CIKR protection and incident management activities.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate.

Title: Assessment Questionnaire—Voluntary Chemical Assessment Tool (VCAT).

DHS Form: Not Applicable.

OMB Number: 1670—NEW.

Affected Public: Business or other for-profit, Federal Government.

Number of Respondents: 50.

Estimated Time per Respondent: 8 hours.

Total Burden Hours: 400 annual burden hours.

Total Burden Cost (capital/startup): $0.00.

Total Burden Cost (operating/maintaining): $0.00.

Thomas Chase Garwood, III,
Chief Information Officer, National Protection and Programs Directorate, Department of Homeland Security.

[FR Doc. E9-22056 Filed 9-11-09; 8:45 am]

BILLING CODE 9110-9P-P